DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 25, 2015.
Roy E. Wright,
Deputy Associate Administrator for Insurance and Mitigation, Department of Homeland Security, Federal Emergency Management Agency.

State and county | Location and case No. | Chief executive officer of community | Community map repository | Effective date of modification | Community No.
Connecticut: New Haven (FEMA Docket No.: B-1473) | Town of Branford (15-01-0490P) | Mr. James B. Cosgrove, First Selectman, Town of Branford, 1019 Main Street, Branford, CT 06405 | 1019 Main Street, Branford, CT 06405 | April 22, 2015 | 090073
Illinois:
Adams (FEMA Docket No.: B-1473) | City of Quincy (14-05-9049P) | The Honorable Kyle Moore, Mayor, City of Quincy, 730 Main Street, Quincy, IL 62301 | 730 Main Street, Quincy, IL 62301 | May 22, 2015 | 170003
Adams (FEMA Docket No.: B-1473) | Unincorporated Areas of Adams County (14-05-9049P) | The Honorable Les Post, Chairman, Adams County, 101 North 54th Street, Quincy, IL 62305 | 101 North 54th Street, Quincy, IL 62305 | May 22, 2015 | 170001
Kane (FEMA Docket No.: B-1473) | City of Elgin (14-05-4054P) | The Honorable Dave Kaptain, Mayor, City of Elgin, 150 Dexter Court, Elgin, IL 60120 | 150 Dexter Court, Elgin, IL 60120 | May 6, 2015 | 170087
Indiana:
Clark (FEMA Docket No.: B-1473) | City of Jefferson (14-05-9401P) | The Honorable Mike Moore, Mayor, City of Jeffersonville, 500 Quartermaster Court, Suite 250, Jeffersonville, IN 47130 | 500 Quartermaster Court, Jeffersonville, IN 47130 | April 17, 2015 | 180027
Clark (FEMA Docket No.: B-1473) | Town of Utica (14-05-9401P) | The Honorable Hank Dorman, Board President, Town of Utica, 736 Utica Charlestown Road, Utica, IN 47130 | 736 Utica Charlestown Road, Utica, IN 47130 | April 17, 2015 | 180487
Clark (FEMA Docket No.: B-1473) | Unincorporated Areas of Clark County (14-05-9401P) | The Honorable Jack Coffman, President, County Commissioners, 501 East Court Avenue, Room 404, Jeffersonville, IN 47130 | 501 East Court Avenue, Jeffersonville, IN 47130 | April 17, 2015 | 180426
Missouri: Jasper (FEMA Docket No.: B-1473) | City of Joplin (14-07-0736P) | The Honorable Michael Seibert, Mayor, City of Joplin, 602 South Main Street, Joplin, MO 64801 | 602 South Main Street, Joplin, MO 64801 | May 26, 2015 | 290183
Ohio:
Delaware (FEMA Docket No.: B-1473) | Unincorporated Areas of Delaware County (14-05-3856P) | The Honorable Gary Merrell, President, Delaware County, Board of Commissioners, 101 North Sandusky Street, Delaware, OH 43015 | 101 North Sandusky Street, Delaware, OH 43015 | May 13, 2015 | 390146
Franklin (FEMA Docket No.: B-1473) | City of Columbus (15-05-0192X) | The Honorable Michael B. Coleman, Mayor, City of Columbus, 90 West Broad Street, 2nd Floor, Columbus, OH 43215 | 90 West Broad Street, Columbus, OH 43215 | May 14, 2015 | 390170
Marion (FEMA Docket No.: B-1473) | Unincorporated Areas of Marion County (14-05-3856P) | The Honorable Daniel L. Russell, Marion County Board of Commissioners, 222 West Center Street, Marion, OH 43302 | 222 West Center Street, Marion, OH 43302 | May 13, 2015 | 390774
Oregon:
Washington (FEMA Docket No.: B-1473) | City of Hillsboro (14-10-1501P) | The Honorable Jerry Willey, Mayor, City of Hillsboro, 150 East Main Street, Hillsboro, OR 97123 | 150 East Main Street, Hillsboro, OR 97123 | May 18, 2015 | 410243
Washington (FEMA Docket No.: B-1473) | Unincorporated Areas of Washington County (14-10-1501P) | The Honorable Andy Duyck, Chairman, Board of Directors, Washington County, 155 North 1st Avenue, Suite 300, Hillsboro, OR 97124 | 155 North 1st Avenue, Hillsboro, OR 97124 | May 18, 2015 | 410238
Wisconsin: Portage (FEMA Docket No.: B-1473) | City of Stevens Point (14-05-4844P) | The Honorable Gary Wescott, Mayor, City of Steven Point, 1515 Strongs Avenue, Stevens Point, WI 54481 | 1515 Strongs Avenue, Stevens Point, WI 54481 | May 15, 2015 | 550342

[FR Doc. 2015-18281 Filed 7-24-15; 8:45 am]

BILLING CODE 9110-12-P